DEPARTMENT OF COMMERCE

International Trade Administration

(A-405-803, A-401-808, A-421-811, A-201-834)

Purified Carboxymethylcellulose from Finland, Sweden, the Netherlands, and Mexico: Extension of Time Limits for Preliminary Determinations of Antidumping Duty Administrative Reviews

AGENCY: Import Administration, International Trade Administration, Department of Commerce.

EFFECTIVE DATE: April 5, 2007.

FOR FURTHER INFORMATION CONTACT: Tyler Weinhold, Robert James (Mexico and Finland), or Angelica Mendoza (Sweden and the Netherlands), AD/CVD Operations, Office 7, Import Administration, International Trade Administration, U.S. Department of Commerce, 14th Street and Constitution Avenue, NW, Washington DC 20230; telephone: (202) 482-1121, (202) 482-0649, and (202) 482-3019, respectively.

SUPPLEMENTARY INFORMATION:

Background

On August 30, 2006, the Department published a notice of initiation of an antidumping duty administrative review for, inter alia, Purified Carboxymethylcellulose from Finland, Sweden, the Netherlands, and Mexico for the December 27, 2004, through June 30, 2006, period of review (POR). See Initiation of Antidumping and Countervailing Duty Administrative Reviews and Requests for Revocation in Part, 71 FR 51573 (August 30, 2006). On December 11, 2006, the Department received requests from Aqualon Company, a division of Hercules, Inc. (Petitioner) that a cost investigation be initiated in the review of CMC from Finland, Sweden, and the Netherlands. See Letters from Petitioner dated December 8, 2006. On January 22, 2007, the Department initiated a sales below cost of production investigation in the instant review of CMC from the Netherlands. See January 22, 2007, memorandum to Richard Weible, regarding Petitioner's allegation of sales below the cost of production in the review of CMC from the Netherlands. On January 24, 2007, the Department initiated a sales below cost of production investigation in the instant review of CMC from Sweden. See January 24, 2007, memorandum to Richard Weible, regarding Petitioner's allegation of sales below the cost of production in the review of CMC from Sweden. On February 5, 2007, the Department initiated a sales below cost of production investigation in the instant review of CMC from Finland. See February 5, 2007, memorandum to Richard Weible, regarding Petitioner's allegation of sales below the cost of production in the review of CMC from Finland. The preliminary results for these administrative reviews are currently due no later than April 2, 2007.

Extension of Time Limits for Preliminary Results

Section 751(a)(3)(A) of the Tariff Act of 1930, as amended (the Act), requires the Department to complete the preliminary results of an administrative review within 245 days after the last day of the anniversary month of an order for which a review is requested. However, if it is not practicable to complete the review within these time periods, section 751(a)(3)(A) of the Act allows the Department to extend the 245 day time period for the preliminary results to 365 days.

The Department has determined it is not practicable to complete these reviews within the statutory time limit because we require additional time to conduct sales below-cost investigations in these administrative reviews and to collect and analyze other information needed for our preliminary determinations. Accordingly, the Department is extending the time limits for completion of the preliminary results of these administrative reviews until no later than July 31, 2007, which is 365 days from the last day of the anniversary month of these orders. We intend to issue the final results in these reviews no later than 120 days after publication of the preliminary results notices.

This notice is issued and published in accordance with sections 751(a)(3)(A) and 777(i)(1) of the Act.

Dated: March 30, 2007.
Stephen Claeys,
Deputy Assistant Secretary for Import Administration.

[FR Doc. E7-6381 Filed 4-4-07; 8:45 am]

BILLING CODE 3510-DS-S